FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011852-023.

Title: Maritime Security Discussion Agreement.

Parties: China Shipping Container Lines, Co., Ltd.; Hyundai Merchant Marine Co., Ltd.; Kawasaki Kisen Kaisha, Ltd.; Nippon Yusen Kaisha; Yang Ming Marine Transport Corp.; Zim Integrated Shipping Services, Ltd.; Alabama State Port Authority; Ceres Terminals, Inc.; Cooper/T. Smith Stevedoring Co., Inc.; Husky Terminal & Stevedoring, Inc.; International Shipping Agency; International Transportation Service, Inc.; Lambert's Point Docks Inc.; Maher Terminals, Inc.; Marine Terminals Corp.; Massachusetts Port Authority; P&O Ports North America, Inc.; Trans Bay Container Terminal, Inc.; TraPac Terminals; Virginia International Terminals; and Yusen Terminals, Inc.

Filing Parties: Carol N. Lambos; The Lambos Firm; 29 Broadway; 9th Floor; New York, NY 10006, and Charles T. Carroll, Jr.; Carroll & Froelich, PLLC; 919 18th Street, NW.; Suite 901; Washington, DC 20006.

Synopsis: The amendment changes Maher Terminals' name to Maher Terminals LLC and updates Maher Terminals' address.

Agreement No.: 011929-001.

Title: Hapag-Lloyd/Zim Mediterranean Slot Exchange Agreement.

Parties: Hapag-Lloyd Container Linie GmbH and Zim Integrated Shipping Services, Ltd.

Filing Party: Wayne R. Rohde, Esq.; Sher & Blackwell LLP; 1850 M Street, NW.; Suite 900; Washington, DC 20036.

Synopsis: The amendment changes Hapag-Lloyd's name to Hapag-Lloyd AG.

By Order of the Federal Maritime Commission.
Dated: January 5, 2007.
Bryant L. VanBrakle,
Secretary.

[FR Doc. E7-180 Filed 1-9-07; 8:45 am]

BILLING CODE 6730-01-P